OFFICE OF PERSONNEL MANAGEMENT

5 CFR Part 451

RIN 3206-AJ65

Awards

AGENCY: Office of Personnel Management.

ACTION: Final rule.

SUMMARY: The Office of Personnel Management (OPM) is issuing final regulations governing Presidential Rank Awards to implement the Treasury and General Government Appropriations Act of 2002, which extends eligibility for Presidential Rank Awards to certain senior career employees. The amendments will also enhance the clarity of the regulations and improve readability.

EFFECTIVE DATE: September 7, 2007.

FOR FURTHER INFORMATION CONTACT: Karen English at (202) 606-2747 or by e-mail at karen.english@opm.gov.

SUPPLEMENTARY INFORMATION: On August 13, 2002, OPM issued an interim rule at 67 FR 52595-52597 amending part 451 and requesting comments on or before October 15, 2002.

Comments

OPM received comments from four Federal agencies and two professional organizations. Those comments are addressed below.

Purpose

Two agencies favored the interim rule and had no further comments.

One agency recommended that OPM include a statement encouraging agency heads to consider diversity when submitting award nominations and to collect and publish the number of Hispanics receiving the award. OPM did not adopt this suggestion because the award is conferred upon an executive who has demonstrated extraordinary and sustained career accomplishments regardless of race, gender, age, etc.

One professional organization asked if section 451.303, paragraphs (a) and (b), were intended to use Roman numerals (i) and (ii) rather than Arabic numerals (1) and (2). OPM agrees and has changed paragraphs (a) and (b) to include Arabic numerals (1) and (2) for format consistency throughout the regulation.

Two agencies recommended the official term “senior career employee” vs. “career senior employee” be used consistently throughout the chapter. OPM agrees and has made the change.

In section 451.303(b) we are removing the italics from “Senior career employees” for format consistency throughout the regulation.

List of Subjects in 5 CFR Part 451

Decorations, medals, awards, Government employees.

Office of Personnel Management.
Linda M. Springer,
Director.

Accordingly, the interim rule published on August 13, 2002, amending 5 CFR 451 (67 FR 52595), is adopted as a final rule with the following changes:

PART 451—AWARDS

1. The authority citation for part 451 continues to read as follows:

Authority: 5 U.S.C. 4302, 4501-4509, E.O. 11438, 12828.

Subpart C—Presidential Rank Awards

§ 451.302 [Amended]

2. Section 451.302(c) is amended by removing the phrase “career senior employees” and adding in its place, the phrase “senior career employees”.

§ 451.303 [Amended]

3. Section 451.303 is amended:

A. By redesignating paragraphs (a)(i), (a)(ii), (b)(i) and (b)(ii) as (a)(1), (a)(2), (b)(1) and (b)(2), respectively;

B. By removing the italics from the words “Senior career employees” in paragraph (b) introductory text; and

C. By removing the words “career senior employees” and adding in its place, the phrase “senior career employees” in newly redesignated paragraphs (b)(1) and (2).

§ 451.304 [Amended].

4. In Section 451.304(a) and (b) remove the words “career senior employee” and add, in their place the words “senior career employee”.

[FR Doc. E7-15470 Filed 8-7-07; 8:45 am]

BILLING CODE 6325-39-P